ENVIRONMENTAL PROTECTION AGENCY

[FRL-7988-1]

Federal Agency Hazardous Waste Compliance Docket (Federal Docket Management System #—SFUND-2005-0004)

AGENCY: Environmental Protection Agency.

ACTION: Notice of twenty-first update of the Federal Agency Hazardous Waste Compliance Docket, pursuant to CERCLA section 120(c).

SUMMARY: Section 120(c) of the Comprehensive Environmental Response, Compensation, and Liability Act of 1980 (CERCLA), as amended by the Superfund Amendments and Reauthorization Act of 1986 (SARA), requires the Environmental Protection Agency (EPA) to establish a Federal Agency Hazardous Waste Compliance Docket. The docket is to contain certain information about Federal facilities that manage hazardous waste or from which hazardous substances have been or may be released. (As defined by CERCLA section 101(22), a release is any spilling, leaking, pumping, pouring, emitting, emptying, discharging, injecting, escaping, leaching, dumping, or disposing into the environment.) CERCLA requires that the docket be updated every six months, as new facilities are reported to EPA by Federal agencies. The following list identifies the Federal facilities to be included in this twenty-first update of the docket and includes facilities not previously listed on the docket and reported to EPA since the last update of the docket, 69 FR 75951, December 20, 2004, which was current as of September 13, 2004. SARA, as amended by the Defense Authorization Act of 1997, specifies that, for each Federal facility that is included on the docket during an update, evaluation shall be completed in accordance with a reasonable schedule. Such site evaluation activities will help determine whether the Federal facility should be included on the National Priorities List (NPL) and will provide EPA and the public with valuable information about the facility. In addition to the list of additions to the docket, this notice includes a section that comprises revisions (that is, corrections and deletions) of the previous docket list. This update contains 3 additions and 12 deletions since the previous update, as well as numerous other corrections to the docket list. At the time of publication of this notice, the new total number of Federal facilities listed on the docket is 2,282.

DATES: This list is current as of February 4, 2005.

FOR FURTHER INFORMATION CONTACT: Electronic versions of the docket can be obtained at http://www.epa.gov/fedfac by clicking on the link for Update #21 to the Federal Agency Hazardous Waste Compliance Docket.

SUPPLEMENTARY INFORMATION:

Table of Contents

1.0 Introduction

2.0 Revisions of the Previous Docket

3.0 Process for Compiling the Updated Docket

4.0 Facilities Not Included

5.0 Facility Status Reporting

6.0 Information Contained on Docket Listing

1.0 Introduction

Section 120(c) of the Comprehensive Environmental Response, Compensation, and Liability Act of 1980 (CERCLA), 42 United States Code (U.S.C.) 9620(c), as amended by the Superfund Amendments and Reauthorization Act of 1986 (SARA), required the establishment of the Federal Agency Hazardous Waste Compliance Docket. The docket contains information on Federal facilities that is submitted by Federal agencies to the U.S. Environmental Protection Agency (EPA) under sections 3005, 3010, and 3016 of the Resource Conservation and Recovery Act (RCRA), 42 U.S.C. 6925, 6930, and 6937, and under section 103 of CERCLA, 42 U.S.C. 9603. Specifically, RCRA section 3005 establishes a permitting system for certain hazardous waste treatment, storage, and disposal (TSD) facilities; RCRA section 3010 requires waste generators and transporters and TSD facilities to notify EPA of their hazardous waste activities; and RCRA section 3016 requires Federal agencies to submit biennially to EPA an inventory of hazardous waste sites that the Federal agencies own or operate. CERCLA section 103(a) requires that the National Response Center (NRC) be notified of a release of a hazardous substance in quantities equal to or greater than the reportable quantity levels established pursuant to CERCLA section 102. CERCLA section 103(c) requires reporting to EPA the existence of a facility at which hazardous substances are or have been stored, treated, or disposed of and the existence of known or suspected releases of hazardous substances at such facilities.

The docket serves three major purposes: (1) To identify all Federal facilities that must be evaluated to determine whether they pose a risk to human health and the environment sufficient to warrant inclusion on the National Priorities List (NPL); (2) to compile and maintain the information submitted to EPA on such facilities under the provisions listed in section 120(c) of CERCLA; and (3) to provide a mechanism to make the information available to the public.

The initial list of Federal facilities to be included on the docket was published on February 12, 1988 (53 FR 4280). Updates of the docket have been published on November 16, 1988 (54 FR 46364); December 15, 1989 (54 FR 51472); August 22, 1990 (55 FR 34492); September 27, 1991 (56 FR 49328); December 12, 1991 (56 FR 64898); July 17, 1992 (57 FR 31758); February 5, 1993 (58 FR 7298); November 10, 1993 (58 FR 59790); April 11, 1995 (60 FR 18474); June 27, 1997 (62 FR 34779); November 23, 1998 (63 FR 64806); June 12, 2000 (65 FR 36994); December 29, 2000 (65 FR 83222); October 2, 2001 (66 FR 50185); July 1, 2002 (67 FR44200); January 2, 2003 (68 FR 107); July 11, 2003 (68 FR 41353); December 15, 2003 (68 FR 240); July 19, 2004 (69 FR 42989); and December 20, 2004 (69 FR 75951). This notice constitutes the twenty-first update of the docket.

Today's notice is divided into three sections: (1) Additions, (2) deletions, and (3) corrections. The additions section lists newly identified facilities that have been reported to EPA since the last update and that now are being included on the docket. The deletions section lists facilities that EPA is deleting from the docket. The corrections section lists changes in information about facilities already listed on the docket.

The information submitted to EPA on each Federal facility is maintained in the docket repository located in the EPA Regional office of the Region in which the facility is located (see 53 FR 4280 (February 12, 1988) for a description of the information required under those provisions). Each repository contains the documents submitted to EPA under the reporting provisions and correspondence relevant to the reporting provisions for each facility. Contact the following docket coordinators for information on Regional docket repositories:

Gerardo Millán-Ramos (HBS), US EPA Region 1, #1 Congress St., Suite 1100, Boston, MA 02114-2023, (617) 918-1377.

Helen Shannon (ERRD), US EPA Region 2, 290 Broadway, 18th Floor, New York, NY 10007-1866, (212) 637-4260.

Alida Karas (ERRD), US EPA Region 2, 290 Broadway, New York, NY 10007-1866, (212) 637-4276.

Cesar Lee (3HS50), US EPA Region 3, 1650 Arch Street, Philadelphia, PA 19107, (215) 814-3205.

Gena Townsend (4WD-FFB), US EPA Region 4, 61 Forsyth St., SW, Atlanta, GA 30303, (404) 562-8538.

James Barksdale (4WD-FFB), US EPA Region 4, 61 Forsyth St., SW, Atlanta, GA 30303, (404) 562-8537.

Laura Ripley (SE-5J), US EPA Region 5, 77 W. Jackson Blvd., Chicago, IL 60604, (312) 886-6040.

Philip Ofosu (6SF-RA), US EPA Region 6, 1445 Ross Avenue, Dallas, TX 75202-2733, (214) 665-3178.

D. Karla Asberry (FFSC), US EPA Region 7, 901 N. Fifth Street, Kansas City, KS 66101, (913) 551-7595.

Stan Zawistowski (EPR-F), US EPA Region 8, 999 18th Street, Suite 500, Denver, CO 80202-2466, (303) 312-6255.

Philip Armstrong (SFD-9-1), US EPA Region 9, 75 Hawthorne Street, San Francisco, CA 94105, (415) 972-3098.

Ken Marcy (ECL-115), US EPA Region 10, 1200 Sixth Avenue, Seattle, WA 98101, (206) 553-2782.

Monica Lindeman (ECL, SACU2), US EPA Region 10, 1200 Sixth Avenue, Seattle, WA 98101, (206)-553-5113.

2.0 Revisions of the Previous Docket

Following is a discussion of the revisions of the previous docket, including additions, deletions, and corrections.

2.1 Additions

Today, three facilities are being added to the docket, primarily because of new information obtained by EPA (for example, recent reporting of a facility pursuant to RCRA sections 3005, 3010, or 3016 or CERCLA section 103). SARA, as amended by the Defense Authorization Act of 1997, specifies that, for each Federal facility that is included on the docket during an update, evaluation shall be completed in accordance with a reasonable schedule.

Of the three facilities being added to the docket, none are facilities that have reported to the NRC the release of a reportable quantity (RQ) of a hazardous substance. Under section 103(a) of CERCLA, a facility is required to report to the NRC the release of a hazardous substance in a quantity that equals or exceeds the established RQ. Reports of releases received by the NRC, the U.S. Coast Guard (USCG), and EPA are transmitted electronically to the Transportation Systems Center at the U.S. Department of Transportation (DOT), where they become part of the Emergency Response Notification System (ERNS) database. ERNS is a national computer database and retrieval system that stores information on releases of oil and hazardous substances. Facilities being added to the docket and facilities already listed on the docket for which an ERNS report has been filed are identified by the notation “103(a)” in the “Reporting Mechanism” column.

EPA's policy is generally not to list on the docket facilities that are small-quantity generators (SQG) that have never generated more than 1,000 kilograms (kg) of hazardous waste in any single month. However, if a facility has generated more than 1,000 kg of hazardous waste in any single month (that is, if the facility is an episodic generator), it will be added to the docket. In addition, facilities that are SQGs and have reported releases under CERCLA section 103 or hazardous waste activities pursuant to RCRA section 3016 will be listed on the docket and are required by CERCLA section 120(d) to undergo site assessment and evaluation activities, such as a Preliminary Assessment (PA) and, when appropriate, a Site Investigation (SI). All such facilities will be listed on the docket, whether or not they are SQGs pursuant to RCRA. As a result, some of the facilities that EPA is adding to the docket today are SQGs that had not been listed on the docket but that have reported releases or hazardous waste activities to EPA under another reporting provision.

In the process of compiling the documents for the EPA Regional repositories, EPA identified a number of facilities that had previously submitted PA reports, SI reports, Department of Defense (DoD) Installation Restoration Program (IRP) reports, or reports under another Federal agency environmental restoration program, but do not appear to have notified EPA under CERCLA section 103. Section 120(c)(3) of CERCLA requires that EPA include on the docket, among other things, information submitted under section 103. In general, section 103 requires persons in charge of a facility to provide notice of certain releases of hazardous substances. The reports under various Federal agency environmental restoration programs may contain information regarding releases of hazardous substances similar to that provided pursuant to section 103. EPA believes that CERCLA section 120(c) authorizes the agency to include on the docket a facility that has provided information to EPA through documents such as a report under a Federal agency environmental restoration program, regardless of the absence of section 103 reporting. Therefore, some of the facilities that EPA is adding today are being placed on the docket because they have submitted the documents described above that contain reports of releases of hazardous substances.

EPA also includes privately owned, government-operated (POGO) facilities on the docket. CERCLA section 120(c) requires that the docket contain information submitted under RCRA sections 3005, 3010, and 3016 and CERCLA section 103, all of which impose requirements on operators as well as owners of facilities. In addition, other subsections of CERCLA section 120 refer to facilities “owned or operated” by an agency or other instrumentality of the Federal government. EPA interprets this terminology to include facilities that are operated by the Federal government, even if they are not owned by it. Specifically, CERCLA section 120(a)(2) provides that all “guidelines, rules, regulations, and criteria” generally are applicable to facilities “owned or operated by a department, agency, or instrumentality of the United States * * *” Also, CERCLA section 120(e), which sets forth the duties of the Federal agencies after a facility has been listed on the NPL, refers to the Federal agency that “owns or operates” the facility. In addition, the primary basis for assigning responsibility for conducting PAs and SIs, as required when a facility is listed on the docket, is Executive Order 12580, which assigns that responsibility to the Federal agency having “jurisdiction, custody, or control” over a facility. An operator may be deemed to have jurisdiction, custody, or control over a facility.

2.2 Deletions

Today, 12 facilities are being deleted from the docket. When facilities are deleted from the docket, it is for reasons such as incorrect reporting of hazardous waste activity, change in ownership, and exemption as a SQG under RCRA (40 CFR 262.44). Facilities being deleted no longer will be subject to the requirements of CERCLA section 120(d).

2.3 Corrections

Changes necessary to correct the previous docket were identified by both EPA and Federal agencies. The changes needed varied from simple changes in addresses or spelling to corrections of the recorded name and ownership of a facility. In addition, some changes in the names of facilities were made to establish consistency in the docket. Many new entries are simply corrections of typographical errors. For each facility for which a correction has been entered, the original entry (designated by an “O”), as it appeared in the February 12, 1988 notice or subsequent updates, is shown directly below the corrected entry (designated by a “C”) for easy comparison.

3.0 Process for Compiling the Updated Docket

In compiling the newly reported facilities for the update being published today, EPA extracted the names, addresses, and identification numbers of facilities from four EPA databases—ERNS, the Biennial Inventory of Federal Agency Hazardous Waste Activities, the Resource Conservation and Recovery Information System (RCRAInfo), and the Superfund Comprehensive Environmental Response, Compensation, and Liability Information System (CERCLIS)—that contain information about Federal facilities submitted under the four provisions listed in CERCLA section 120(c).

EPA assures the quality of the information in the Docket by conducting extensive analysis of the current docket list with the information obtained from the databases identified above to determine which facilities were, in fact, newly reported and qualified for inclusion on the update. EPA is also striving to correct errors for facilities that were previously reported. For example, state-owned or privately owned facilities that are not operated by the Federal government may have been included. Such problems are sometimes caused by procedures historically used to report and track Federal facilities data. EPA is working to resolve them. Representatives of Federal agencies are asked to write to EPA's docket coordinator at the following address if revisions of this update information are necessary: Joshua A. Barber, Federal Agency Hazardous Waste Compliance Docket Coordinator, Federal Facilities Restoration Reuse Office (Mail Code 5106G), U.S. Environmental Protection Agency, 1200 Pennsylvania Avenue NW., Washington, DC 20460.

4.0 Facilities Not Included

As explained in the preamble to the original docket (53 FR 4280), the docket does not include the following categories of facilities (note, however, that any of these types of facilities may, when appropriate, be listed on the NPL):

• Facilities formerly owned by a Federal agency that are no longer owned by the Federal Government (including those now owned by State or local governments, private entities, non-governmental organizations, etc).

• SQGs that have never produced more than 1,000 kg of hazardous waste in any single month and that have not reported releases under CERCLA section 103 or hazardous waste activities under RCRA section 3016.

• Facilities that are solely transporters, as reported under RCRA section 3010.

5.0 Facility Status Reporting

EPA has expanded the docket database to include information on the No Further Remedial Action Planned (NFRAP) status of listed facilities. Indicating NFRAP status allows easy identification of facilities that, after submitting all necessary site assessment information, were found to warrant no further involvement on the part of EPA at the time of the status change. Accordingly, the docket database includes the following facility status codes:

U = Undetermined.

N = No further remedial action planned (NFRAP).

NFRAP is a term used in the Superfund site assessment program to identify facilities for which EPA has found that currently available information indicates that listing on the NPL is not warranted and further assessment by EPA is not appropriate at the time. NFRAP status does not represent an EPA determination that no environmental threats are present at the facility or that no further environmental response action of any kind is necessary. NFRAP status means only that the facility does not appear, from the information available to EPA at this time, to warrant listing on the NPL and that, therefore, EPA anticipates no further involvement by EPA in site assessment or cleanup at the facility. However, additional CERCLA response actions by the Federal agency that owns or operates the facility, whether remedial or removal actions, may be necessary at a facility that has a NFRAP status. The status information contained in the docket database is the result of EPA Regional evaluation of information taken directly from the Comprehensive Environmental Response, Compensation and Liability Information System (CERCLIS). (CERCLIS is a database used by EPA Headquarters and Regional personnel to manage sites, programs, and projects. It contains the official inventory of all CERCLA (NPL and non-NPL) sites and supports all site planning and tracking functions. It also integrates financial data from preremedial, remedial, removal, post construction completion and enforcement programs.) The status information was extracted from CERCLIS and was reviewed by the EPA Regional docket coordinators for review. The results of those reviews are incorporated into the status field in the docket database. Subsequently, an updated list of facilities having NFRAP status (those for which an “N” appears in the status field) was generated; the list of updates since the previous publication of the docket is being published today.

Important limitations apply to the list of facilities that have NFRAP status. First, the information is accurate only as of February 4, 2005. Second, a facility's status may change at any time because of any number of factors, including, but not limited to new site information. Finally, the list of facilities that have NFRAP status is based on EPA Regional review of CERCLIS data, is provided for information purposes only, and should not be considered binding upon either the Federal agency responsible for the facility or EPA.

The status information in the docket database will be reviewed and a new list of facilities classified as NFRAP will be published at each docket update.

6.0 Information Contained on Docket Listing

As discussed above, the update information below is divided into three separate sections. The first section is a list of new facilities that are being added to the docket. The second section is a list of facilities that are being deleted from the docket. The third section comprises corrections of information included on the docket. Each facility listed for the update has been assigned a code(s) that indicates a more specific reason(s) for the addition, deletion, or correction. The code key precedes the lists.

SARA, as amended by the Defense Authorization Act of 1997, specifies that, for each Federal facility that is included on the docket during an update, evaluation shall be completed in accordance with a reasonable schedule. Therefore, all facilities on the additions list to this twenty first docket update must submit a PA and, if warranted, an SI to EPA. The PA must include existing information about a site and its surrounding environment, including a thorough examination of human, food-chain, and environmental targets, potential waste sources, and migration pathways. EPA will determine whether a SI is required based on information in the PA or other information coming to EPA's attention. An SI augments the data collected in a PA and requires sampling and other field data that are used to determine whether further action or investigation is appropriate. This policy includes any facility for which there is a change in the identity of the responsible Federal agency. The reports should be submitted to the Federal facilities coordinator in the appropriate EPA Regional office. Guidance on conducting PAs and SIs can be obtained from the Guidance for Performing Preliminary Assessments Under CERCLA, 1991 and Guidance for Performing Site Inspections Under CERCLA, 1992. Additional information on site assessment at Federal facilities can be found in the Federal Facilities Remedial Preliminary Assessment Summary Guide, 2005 and the Federal Facilities Remedial Site Investigation Summary Guide, 2005.

The facilities listed in each section are organized by state and then grouped alphabetically within each state by the Federal agency responsible for the facility. Under each state heading is listed the name and address of the facility, the Federal agency responsible for the facility, the statutory provision(s) under which the facility was reported to EPA, and the correction code(s).

The statutory provisions under which a facility reported are listed in a column titled “Reporting Mechanism.” Applicable mechanisms are listed for each facility: for example 3010, 3016, and 103(c).

The complete list of Federal facilities that now make up the docket and the complete list of facilities classified as NFRAP are not being published today. However, the lists are available to interested parties and can be obtained at http://www.epa.gov/fedfac by clicking on the link for Update #21 to the Federal Agency Hazardous Waste Compliance Docket or by calling the EPA HQ Docket Coordinator at (703) 603-0265. As of today, the total number of Federal facilities that appear on the docket is 2,282.

Dated: October 18, 2005.
James E. Woolford,
Director, Federal Facilities Restoration and Reuse Office, Office of Solid Waste and Emergency Response.

Docket Revisions

Categories of Revisions for Docket Update by Correction Code

Categories for Deletion of Facilities

(1) Small-Quantity Generator.

(2) Not Federally Owned.

(3) Formerly Federally Owned.

(4) No Hazardous Waste Generated.

(5) (This correction code is no longer used.)

(6) Redundant Listing/Site on Facility.

(7) Combining Sites Into One Facility/Entries Combined.

(8) Does Not Fit Facility Definition.

(9) (This correction code is no longer used.)

(10) (This correction code is no longer used.)

(11) (This correction code is no longer used.)

(12) (This correction code is no longer used.)

(13) (This correction code is no longer used.)

(14) (This correction code is no longer used.)

Categories for Addition of Facilities

(15) Small-Quantity Generator With Either a RCRA 3016 or CERCLA 103 Reporting Mechanism.

(16) One Entry Being Split Into Two/Federal Agency Responsibility Being Split.

(17) New Information Obtained Showing That Facility Should Be Included.

(18) Facility Was a Site on a Facility That Was Disbanded; Now a Separate Facility.

(19) Sites Were Combined Into One Facility.

(19A) New Facility.

Categories for Corrections of Information About Facilities

(20) Reporting Provisions Change.

(20A) Typo Correction/Name Change/Address Change.

(21) Changing Responsible Federal Agency. (New Responsible Federal Agency Must Submit proof of previously performed PA, which is subject to approval by EPA.)

(22) Changing Responsible Federal Agency and Facility Name. (New Responsible Must Submit proof of previously performed PA, which is subject to approval by EPA.)

(23) New Reporting Mechanism Added at Update.

(24) Reporting Mechanism Determined To Be Not Applicable After Review of Regional Files.

Note: Further information on definitions of categories can be obtained by calling Joshua Barber, the HQ Docket Coordinator at (703) 603-0265.

Federal Agency Hazardous Waste Compliance Docket Update #21—Additions
Facility name | Address | City | State | Zip Code | Agency | Reporting mechanism | Code
FS-Tongass NF: APC Saginaw Bay Log Transfer | Mile 0 FSR 6448 | Kuiu Island | AK | 99830 | Agriculture | 3010 | 19A
FS-Tongass NF: Sealevel Mine | R94E T75S S18 | Ketchikan | AK | 99919 | Agriculture | 103c | 19A
BLM-Josephine Mill #2 Site | 1 Mi NW of Pend Oreille Village, T39N R43E Sec 16 | Metaline Falls | WA | 99153 | Interior | 103c | 19A

Federal Agency Hazardous Waste Compliance Docket Update #21—Corrections
Facility name | Address | City | State | Zip Code | Agency | Reporting mechanism | Code
c—FAA-Iliamna Facility | Airport Nav Aids | Iliamna | AK | 99606 | Transportation | 103c 3010 3016 | 20A, 23
o—FAA-Iliamna Site | Iliamna | Iliamna | AK | 99606 | Transportation | 103c 3016 |
c—FWS-Grays Lake National Wildlife Refuge: Grays | 74 Grays Lake Rd 30 Mi N of Soda Springs | Wayan | ID | 83285 | Interior | 3010 103c | 20A, 23
o—FWS-Grays Lake National Wildlife Refuge | 74 Grays Lake Rd 30 Mi N of Soda Springs | Wayan | ID | 83285 | Interior | 3010 |
c—FWS-Detroit River International Wildlife | w/in Detroit River, 10 Miles Downstream Detroit, E of 6975 Mower Road | Wyandotte | MI | 48192 | Interior | 3016 103c | 20A, 23
o—FWS-Detroit River International Wildlife |  | Saginaw | MI | 48601-9783 | Interior | 3016 |
c—USDA-FGIS Technical Center | 10383 N Ambassador Dr | Kansas City | MO | 64153 | Agriculture | 3016 103c | 23
o—USDA FGIS Technical Center | 10383 N Ambassador Dr | Kansas City | MO | 64153 | Agriculture | 3016 |
c—NPS-Statue of Liberty Natl Monument: Ellis Island | Liberty Island | New York | NY | 10004 | Interior | 3010 103c | 20A, 23
o—NPS-Statue of Liberty Natl Liberty Monument: Ellis Island | National Monument Island | Liberty Island | NY | 10004 | Interior | 3010 |
c—DLA/DNSC Scotia Depot | Route 5 | Scotia | NY | 12302-1039 | General Services Administration | 103c 3016 | 23
o—DLA/DNSC Scotia Depot | Route 5 | Scotia | NY | 12302-1039 | General Services Administration | 3016 |
c—Bessey Nursery—USDA/Forest Service | Spur 86B | Halsey | NE | 69142 | Agriculture | 3016 103c | 20A, 23
o—Bessey Nursery | Spur 86B | Halsey | NE | 69142 | Agriculture | 3016 |
c—Houston Medical Center | 2002 Holcombe Boulevard | Houston | TX | 77030 | Veterans Affairs | 103a 103c 3010 | 23
o—Houston Medical Center | 2002 Holcombe Boulevard | Houston | TX | 77030 | Veterans Affairs | 103a 3010 |
c—Saginaw (CSMS #1) | 855 E. Industrial | Saginaw | TX | 76131 | Army | 3016 103c | 23
o—Saginaw (CSMS #1) | 855 E. Industrial | Saginaw | TX | 76131 | Army | 3016 |

Federal Agency Hazardous Waste Compliance Docket Update #21—Deletions
Facility name | Address | City | State | Zip Code | Agency | Reporting mechanism | Code
FAA-Kirksville (EX) AFS P-64 | Rt. 2, Box 144A Hwy 23 South | Booneville | AR |  | Agriculture | 3016 | 1
FWS-D'Arbonne National Wildlife Refuge | 11372 Hwy 143 | Farmerville | LA | 71241-0401 | Interior | 3016 | 1
FWS-Upper Ouachita National Wildlife Refuge | 11372 Hwy 143 | Farmerville | LA | 71241-0401 | Interior | 3016 | 1
Hammond Combat Communication Air National | 901 N Airport Rd | Hammond | LA | 70401 | Air Force | 3010 | 1
C. Ezell Property | Route 1 Box 69 | Sandheimer | LA | 71276 |  | 3016 | 2
Shreveport Medical Center | 510 East Stoner Ave | Shreveport | LA | 71130 | Veterans Affairs | 103a | 1
Santa Fe NF: Pecos Campground | 1220 St. Francis Drive | Santa Fe | NM | 87504 | Agriculture | 103c 3016 | 4
BIA Branch of Roads CHEU | 371 Hwy Blk 6 Shop 7 Mi S | Farmington | NN | 87499 | Interior | 3010 | 2
Bul-Man Construction Company | 5214 Burleson Rd #308 | Austin | TX | 78744 |  | 3010 | 2
Houston Army Maintenance Support Activity #4 | 6903 Perimeter Park | Houston | TX | 77041 | Army | 3010 | 1
NALF Orange Grove | Dirt Rd 3m E H-281 | Orange Grove | TX | 78363 | Navy | 3010 | 1
BLM-East Summit Mining Claims | T31WR20WSEC11,14 |  | UT |  | Interior | 103c 3016 | 4

[FR Doc. 05-21267 Filed 10-24-05; 8:45 am]

BILLING CODE 6560-50-P